DEPARTMENT OF JUSTICE

Antitrust Division

Notice Pursuant to the National Cooperative Research and Production Act of 1993—Semiconductor Research Corporation

Notice is hereby given that, on September 14, 2004, pursuant to section 6(a) of the National Cooperative Research and Production Act of 1993, 15 U.S.C. 4301 et seq. (“the Act”), Semiconductor Research Corporation has filed written notifications simultaneously with the Attorney General and the Federal Trade Commission disclosing changes in its membership status. The notifications were filed for the purpose of extending the Act's provisions limiting the recovery of antitrust plaintiffs to actual damages under specified circumstances. Specifically, Chartered Semiconductor Mfg., Singapore, SINGAPORE has been added to this venture as Member; and Rohm and Haas Electronic Materials, Marlborough, MA has been added as Science Area Member. Also, Compaq Computer Corporation, Shrewsbury, MA; Conexant Systems, Newport Beach, CA; CVC, Inc., Rochester, NY; Eastman Kodak Company, Rochester, NY; FLIPCHIP Technologies L.L.C., Phoenix, AZ; Genus, Inc., Sunnyvale, CA; Microcosm Technologies, Inc., Irvine, CA; Mission Research Corporation, Albuquerque, NM; Neo Linear, Inc., Pittsburgh, PA; Numerical Technologies, Inc., San Jose, CA; Physical Electronics Inc., Eden Prairie, NM; Shipley Company, Marlborough, MA; SILVACO Data Systems, Santa Clara, CA; Synopsys, Inc., Mountain View, CA; TestChip Technologies, Inc., Austin, TX; Tessera, Inc., San Jose, CA; Torrex Equipment Corporation, Livermore, CA; and Ziptronix, Inc., Research Triangle, NC have been dropped as parties to this venture.

No other changes have been made in either the membership or planned activity of the group research project. Membership in this group research project remains open, and SRC intends to file additional written notification disclosing all changes in membership.

On January 7, 1985, SRC filed its original notification pursuant to section 6(a) of the Act. The Department of Justice published a notice in the Federal Register pursuant to section 6(b) of the Act on January 30, 1985 (50 FR 4281).

The last notification was filed with the Department on January 6, 2001. A notice was published in the Federal Register pursuant to section 6(b) of the Act on March 8, 2001 (66 FR 13972).

Dorothy B. Fountain,
Deputy Director of Operations, Antitrust Division.

[FR Doc. 04-23506 Filed 10-20-04; 8:45 am]

BILLING CODE 4410-11-M